NUCLEAR REGULATORY COMMISSION

[Docket Nos. 50-409 and 72-046; NRC-2015-0279]

LaCrosseSolutions, LLC, Dairyland Power Cooperative, La Crosse Boiling Water Reactor

AGENCY: Nuclear Regulatory Commission.

ACTION: Exemption; issuance.

SUMMARY: The U.S. Nuclear Regulatory Commission (NRC) is issuing exemptions from several of the record keeping requirements in its regulations in response to a request from LaCrosseSolutions, LLC, and the Dairyland Power Cooperative (collectively, the licensee). Specifically, the licensee requested that the La Crosse Boiling Water Reactor be granted a partial exemption from regulations that require retention of records for certain systems, structures, and components until the termination of the operating license. The NRC is also issuing an exemption from the portion of the regulations that requires certain records for spent fuel in storage to be kept in duplicate for the La Crosse Boiling Water Reactor Independent Spent Fuel Storage Installation.

ADDRESSES: Please refer to Docket ID NRC-2015-0279 when contacting the NRC about the availability of information regarding this document. You may obtain publicly-available information related to this document using any of the following methods:

• Federal Rulemaking Web site: Go to http://www.regulations.gov and search for Docket ID NRC-2015-0279. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. In most cases, documents available in the ADAMS Legacy Library are available to the public on microfiche in the NRC's PDR.

• NRC's PDR: You may examine and purchase copies of public documents at the NRC's PDR, Room O1-F21, One White Flint North, 11555 Rockville Pike, Rockville, Maryland 20852.

FOR FURTHER INFORMATION CONTACT: Marlayna G. Vaaler, Office of Nuclear Material Safety and Safeguards; telephone: 301-415-3178; email: Marlayna.Vaaler@nrc.gov; U.S. Nuclear Regulatory Commission, Washington, DC 20555-0001.

SUPPLEMENTARY INFORMATION:

I. Background

The La Crosse Boiling Water Reactor (LACBWR) was an Atomic Energy Commission (AEC) Demonstration Project Reactor that first went critical in 1967, commenced commercial operation in November 1969, and was capable of producing 50 megawatts electric. The LACBWR is located on the east bank of the Mississippi River in Vernon County, Wisconsin. The Allis-Chalmers Company was the original licensee; the AEC later sold the plant to the Dairyland Power Cooperative (DPC) and granted it Provisional Operating License No. DPR-45 on August 28, 1973 (ADAMS Legacy Accession No. 3001002570).

The LACBWR permanently ceased operations on April 30, 1987 (ADAMS Legacy Accession No. 8705280175), and reactor defueling was completed on June 11, 1987 (ADAMS Legacy Accession No. 8707090206). In a letter dated August 4, 1987 (ADAMS Legacy Accession No. 8708060296), the NRC terminated DPC's authority to operate LACBWR under Provisional Operating License No. DPR-45, and granted the licensee a possess-but-not-operate status. By letter dated August 18, 1988 (ADAMS Legacy Accession No. 8808240330), the NRC amended DPC's Provisional Operating License No. DPR-45 to Possession Only License No. DPR-45 to reflect the permanently defueled configuration at LACBWR. Therefore, pursuant to the provisions of section 50.82(a)(1)(iii) and 50.82(a)(2) of title 10 of the Code of Federal Regulations (10 CFR), DPC's part 50 license does not authorize operation of LACBWR or emplacement or retention of fuel into the reactor vessel.

The NRC issued an order to authorize decommissioning of LACBWR and approve the licensee's proposed Decommissioning Plan (DP) on August 7, 1991 (ADAMS Legacy Accession No. 9108160044). Because the NRC approved DPC's DP before August 28, 1996, pursuant to 10 CFR 50.82, the DP is considered the Post-Shutdown Decommissioning Activities Report (PSDAR) for LACBWR. The PSDAR public meeting was held on May 13, 1998, and subsequent updates to the LACBWR decommissioning report have combined the DP and PSDAR into the “LACBWR Decommissioning Plan and Post-Shutdown Decommissioning Activities Report” (D-Plan/PSDAR).

The DPC developed an onsite Independent Spent Fuel Storage Installation (ISFSI) and completed the movement of all 333 spent nuclear fuel elements from the Fuel Element Storage Well to dry cask storage at the ISFSI by September 19, 2012 (ADAMS Accession No. ML12290A027). The remaining associated buildings and structures are ready for dismantlement and decommissioning activities.

By Order dated May 20, 2016 (ADAMS Accession No. ML16123A073), the NRC approved the direct transfer of Possession Only License No. DPR-45 for LACBWR from DPC to LaCrosse Solutions, LLC (LS), a wholly-owned subsidiary of Energy Solutions, LLC, and approved a conforming license amendment, pursuant to 10 CFR 50.80 and 50.90, to reflect the change. The Order was published in the Federal Register on June 2, 2016 (81 FR 35383). The transfer assigns DPC's licensed possession, maintenance, and decommissioning authorities for LACBWR to LS in order to implement expedited decommissioning at the LACBWR site. LS also assumed responsibility as the primary licensee for all outstanding licensing actions that were submitted by DPC prior to the license transfer being implemented.

II. Request/Action

By letter dated October 13, 2015 (ADAMS Accession No. ML15314A068), as supplemented by letter dated December 2, 2015 (ADAMS Accession No. ML15357A054), which replaced the October 13, 2015, submittal in its entirety, the licensee filed a request for NRC approval of a permanent exemption from the record retention requirements of: (1) 10 CFR part 50, appendix A, Criterion 1, which requires certain records be retained throughout the life of the unit; (2) 10 CFR part 50, appendix B, Criterion XVII, which requires certain records be retained consistent with regulatory requirements for a duration established by the licensee; (3) 10 CFR 50.59(d)(3), which requires certain records be maintained until termination of a license issued pursuant to 10 CFR part 50; (4) 10 CFR 50.71(c), which requires certain records be maintained consistent with various elements of the NRC regulations, facility technical specifications and other licensing bases documents; and (5) 10 CFR 72.72(d), which requires that certain records of spent fuel and high-level radioactive waste in storage be kept in duplicate in a separate location sufficiently remote from the original records that a single event would not destroy both sets of records. The request was made pursuant to 10 CFR 50.12, “Specific exemptions,” and 10 CFR 72.7, “Specific exemptions.”

The licensee is proposing to: (1) Eliminate these records for LACBWR when the licensing basis requirements previously applicable to the nuclear power unit and associated systems, structures, and components (SSCs) are no longer effective (e.g., removed from the DP/PSDAR, Defueled Safety Analysis Report, and/or technical specifications by appropriate change mechanisms); and (2) eliminate the duplicate copies of spent fuel records for the LACBWR ISFSI by storing them using the same procedures and processes used for the LACBWR spent fuel records, which are stored in accordance with the NRC-approved LACBWR Quality Assurance Program Description (QAPD) Manual. The licensee cites record retention exemptions granted to Zion Nuclear Power Station, Units 1 and 2 (ADAMS Accession No. ML111260277), Millstone Power Station, Unit 1, (ADAMS Accession No. ML070110567), and Haddam Neck Plant (ADAMS Accession No. ML052160088), as precedents for the NRC granting the licensee's request.

Records associated with residual radiological activity and programmatic controls necessary to support decommissioning, such as security and quality assurance (QA), are not affected by the exemption request because they will be retained as decommissioning records until the termination of the LACBWR license. In addition, the licensee did not request an exemption associated with any other record keeping requirements for the storage of spent fuel at its ISFSI under 10 CFR part 50 or the general license requirements of 10 CFR part 72. No exemption was requested from the decommissioning records retention requirements of 10 CFR 50.75, or any other requirements of 10 CFR part 50 applicable to decommissioning.

III. Discussion

Pursuant to 10 CFR 50.12, the Commission may, upon application by any interested person or upon its own initiative, grant exemptions from the requirements of 10 CFR part 50 when the exemptions are authorized by law, will not present an undue risk to public health or safety, and are consistent with the common defense and security. However, the Commission will not consider granting an exemption unless special circumstances are present. Special circumstances are described in 10 CFR 50.12(a)(2).

Pursuant to 10 CFR 72.7 the Commission may, upon application by any interested person or upon its own initiative, grant exemptions from the requirements of 10 CFR part 72 when it determines that the exemptions are authorized by law, will not endanger life or property or the common defense and security, and are otherwise in the public interest.

As described in the DP/PSDAR and subsequent updates, LACBWR is being returned to a condition suitable for unrestricted use. According to the December 2, 2015, submittal, there are no SSCs classified as safety-related remaining on the site, and the nuclear reactor and essentially all associated SSCs in the nuclear steam supply system and balance of plant that supported the generation of power have been retired in place, are being prepared for removal, or have already been dismantled. The only SSCs that remain operable are associated with the liquid waste discharge system. The plant is considered to be in a “cold and dark” condition awaiting final dismantlement and the completion of decommissioning.

The licensee's general justification for eliminating records associated with LACBWR SSCs that have been or will be removed from service under the NRC license, dismantled, or demolished, is that these SSCs will not in the future serve any LACBWR functions regulated by the NRC. The licensee's dismantlement plans involve evaluating SSCs with respect to the current facility safety analysis; progressively removing them from the licensing basis where necessary through appropriate change mechanisms (e.g., 10 CFR 50.59 or via NRC-approved technical specification changes, as applicable); revising the Defueled Safety Analysis Report as necessary; and then proceeding with an orderly dismantlement.

While the licensee intends to retain the records required by its license as the project transitions from current plant conditions to a fully decommissioned state, plant dismantlement will obviate the regulatory and business need for maintenance of most records. As the SSCs already removed from the licensing basis are subsequently dismantled and the need for the associated records is, on a practical basis, eliminated, the licensee proposes that they be exempted from the records retention requirements for SSCs and historical activities that are no longer relevant, thereby eliminating the associated regulatory and economic burdens of creating alternative storage locations, relocating records, and retaining irrelevant records.

The exemption request states that all records necessary for spent fuel and spent fuel storage SSCs and activities have been, and will continue to be, retained for LACBWR and the LACBWR ISFSI in accordance with the applicable sections of 10 CFR part 50 and 10 CFR part 72. However, under the proposed exemption from 10 CFR 72.72(d), the licensee would eliminate the duplicate storage requirement for the LACBWR ISFSI spent fuel records and instead store them in the same manner used for the LACBWR plant's QA records, using a single storage facility subject to the same procedures and processes outlined in the NRC-approved QAPD. The NRC previously determined that the QAPD meets the applicable requirements of appendix B to 10 CFR part 50. Under the provisions of the QAPD, both the LACBWR ISFSI and plant's spent fuel documents are considered QA records to be stored in accordance with the QAPD.

According to Revision 29 of the LACBWR QAPD, document storage requirements must meet American National Standards Institute (ANSI) standard N45 2.9-1974, “Requirements for Collection, Storage, and Maintenance of Quality Assurance Records,” which specifies, in part, design requirements for use in the construction of record storage facilities when the use of a single storage facility is desired. In approving the QAPD, the NRC also approved the single facility location used for the storage and maintenance of QA records at LACBWR.

Section XVII, “Quality Assurance Records,” of the LACBWR QAPD states that the facility has established measures for maintaining ISFSI records that cover all documents and records associated with the operation, maintenance, installation, repair, and modification of SSCs covered by the QAPD. Also included are historical records gathered and collected during plant and ISFSI operations that are either required to support the dry cask storage systems stored at the ISFSI or ultimate shipment of the fuel to a federal repository. The QAPD also allows for QA records to be stored in accordance with ANSI N45 2.9-1974 in a single storage facility designed and maintained to minimize the risk of damage from adverse conditions. The licensee affirmed in its application that the record storage vault at LACBWR was constructed and is maintained to meet the requirements of the NRC-approved QAPD.

In addition, the licensee recognized in its application that the LACBWR site will continue to be under NRC regulation until license termination, primarily due to residual radioactivity. The operational, radiological, and other necessary programmatic controls (such as security and QA) for the facility, as well as the implementation of controls for the decommissioning activities, are and will continue to be appropriately addressed through the 10 CFR part 50 license and current decommissioning documents such as the DP/PSDAR and plant technical specifications.

• The Exemption is Authorized by Law: Under 10 CFR 50.12 and 10 CFR 72.7, the Commission may grant exemptions from the regulations in 10 CFR part 50 and 10 CFR part 72, as the Commission determines are authorized by law. The NRC staff has determined that granting of the licensee's proposed exemption will not result in a violation of the Atomic Energy Act of 1954, as amended, other laws, or the Commission's regulations. Therefore, the exemption from the record keeping requirements of 10 CFR 50.71(c); 10 CFR part 50, appendix A, Criterion I; 10 CFR part 50, appendix B, Criterion XVII; 10 CFR 50.59(d)(3); and 10 CFR 72.72(d) is authorized by law.

• The Exemption Presents no Undue Risk to Public Health and Safety and Will Not Endanger Life or Property: Removal of the underlying SSCs associated with the records for which the licensee has requested an exemption from record keeping requirements has been or will be determined by the licensee to have no adverse public health and safety impact, in accordance with 10 CFR 50.59 or an NRC-approved license amendment. These change processes involve either a determination by the licensee or an approval from the NRC that the affected SSCs no longer serve any safety purpose regulated by the NRC. Elimination of records associated with these removed SSCs can have no impact to public health and safety.

The partial exemption from the record keeping requirements of 10 CFR 50.71(c); 10 CFR part 50, appendix A, Criterion I; 10 CFR part 50, appendix B, Criterion XVII; and 10 CFR 50.59(d)(3) for the records described above is administrative in nature and will have no impact on any remaining decommissioning activities or on radiological effluents. The exemption will only advance the schedule for disposition of the specified records. Considering the content of these records, the elimination of these records on an advanced timetable will have no reasonable potential of presenting any undue risk to the public health and safety.

The exemption from the portion of 10 CFR 72.72(d) that requires records for spent fuel in storage to be kept in duplicate for the LACBWR ISFSI continues to meet the record keeping requirements of 10 CFR part 50, appendix B, and other applicable 10 CFR part 72 requirements in that the spent fuel records will be stored and maintained in accordance with the NRC-approved QAPD. Specifically, 10 CFR 72.140(d) states that a QA program that is approved by the NRC as meeting the applicable requirements of appendix B to 10 CFR part 50, will be accepted as satisfying the requirements of 10 CFR 72.140(b) for establishment of an ISFSI QA program, except the licensee must also meet the record keeping provisions of 10 CFR 72.174. As noted above, the NRC previously reviewed the licensee's QA program and determined that it met the applicable requirements of appendix B to part 50. In addition, the exemption will not affect the record content, retrievability, or retention requirements specified in 10 CFR 72.72 or 10 CFR 72.174, such that the licensee will continue to meet all other applicable record requirements for the LACBWR ISFSI and associated special nuclear materials. The NRC staff determined that the process and procedures that will be used to store these records (i.e., in accordance with the QAPD at a facility designed for protection against degradation mechanisms such as fire, humidity, and condensation) will help ensure that the required spent fuel information is adequately maintained. Therefore, the staff concludes that granting an exemption from the duplicate record requirement of 10 CFR 72.72(d) will not have an impact on public health and safety, and, in accordance with 10 CFR 72.7, will not endanger life or property.

• The Exemption is Consistent with, and Will Not Endanger, the Common Defense and Security: The elimination of the record keeping requirements does not involve information or activities that could potentially impact the common defense and security of the United States. Upon dismantlement of the affected SSCs, the records have no functional purpose relative to maintaining the safe operation of the SSCs, maintaining conditions that would affect the ongoing health and safety of workers or the public, or informing decisions related to nuclear security.

Rather, the exemption requested is administrative in nature and would only advance the current schedule for disposition of the specified records. Therefore, the partial exemption from the record keeping requirements of 10 CFR 50.71(c); 10 CFR part 50, appendix A, Criterion I; 10 CFR part 50, appendix B, Criterion XVII; and 10 CFR 50.59(d)(3) for the types of records described above is consistent with the common defense and security.

The exemption from 10 CFR 72.72(d) continues to meet the record keeping requirements of 10 CFR part 50, appendix B, and other applicable 10 CFR part 72 requirements in that the spent fuel records will be stored and maintained in accordance with the NRC-approved QAPD. In addition, the exemption will not affect the record content, retrievability, or retention requirements specified in 10 CFR 72.72 or 10 CFR 72.174, such that the licensee will continue to meet all other applicable record requirements for the LACBWR ISFSI and associated special nuclear materials. Therefore, the exemption will not endanger the common defense and security.

• The Exemption is In the Public Interest: Allowing the LACBWR ISFSI spent fuel records to be stored in the same manner as the spent fuel records for the LACBWR facility provides for greater efficiency in the storage of all of LACBWR's QA records now that the facility is entering the final stages of decommissioning whereby only the ISFSI facility will remain after license termination. Requiring a separate method for the storage of certain ISFSI QA records diverts resources from decommissioning activities at the LACBWR site. Therefore, the exemption from 10 CFR 72.72(d) is in the public interest since it will allow decommissioning at LACBWR to be accomplished more efficiently and effectively without the need to maintain two separate records storage systems.

• Special Circumstances: Paragraph 50.12(a)(2) states, in part: “The Commission will not consider granting an exemption unless special circumstances are present. Special circumstances are present whenever: . . . (ii) Application of the regulation in the particular circumstances would not serve the underlying purpose of the rule or is not necessary to achieve the underlying purpose of the rule; (iii) Compliance would result in undue hardship or other costs that are significantly in excess of those contemplated when the regulation was adopted. . . .”

Criterion 1 of 10 CFR part 50, Appendix A, states in part: “Appropriate records of the design, fabrication, erection, and testing of structures, systems, and components important to safety shall be maintained by or under the control of the nuclear power unit licensee throughout the life of the unit.”

Criterion XVII of 10 CFR part 50, appendix B, states in part: “Sufficient records shall be maintained to furnish evidence of activities affecting quality.”

Paragraph 50.59(d)(3) states in part: “The records of changes in the facility must be maintained until the termination of an operating license issued under this part. . . .”

Paragraph 50.71(c), states in part: “Records that are required by the regulations in this part or part 52 of this chapter, by license condition, or by technical specifications must be retained for the period specified by the appropriate regulation, license condition, or technical specification. If a retention period is not otherwise specified, these records must be retained until the Commission terminates the facility license. . . .”

In the statement of considerations (SOC) for the final rulemaking, “Retention Periods for Records” (53 FR 19240; May 27, 1988), in response to public comments received during the rulemaking process, the NRC stated that records must be retained “for NRC to ensure compliance with the safety and health aspects of the nuclear environment and for the NRC to accomplish its mission to protect the public health and safety.” In the SOC, the Commission also explained that requiring licensees to maintain adequate records assists the NRC “in judging compliance and noncompliance, to act on possible noncompliance, and to examine facts as necessary following any incident.”

These regulations apply to licensees in decommissioning despite the fact that, during the decommissioning process, safety-related SSCs are retired or disabled and subsequently removed from NRC licensing basis documents by appropriate change mechanisms. Appropriate removal of an SSC from the licensing basis requires either a determination by the licensee or an approval from the NRC that the SSC no longer has the potential to cause an accident, event, or other problem which would adversely impact public health and safety.

The records subject to removal under this exemption are associated with SSCs that had been important to safety during power operation or operation of the SFP but are no longer capable of causing an event, incident, or condition that would adversely impact public health and safety, as evidenced by their appropriate removal from the licensing basis documents. If the SSCs no longer have the potential to cause these scenarios, then it is reasonable to conclude that the records associated with these SSCs would not reasonably be necessary to assist the NRC in determining compliance and noncompliance, taking action on possible noncompliance, and examining facts following an incident. Therefore, their retention would not serve the underlying purpose of the rule.

In addition, once removed from the licensing basis documents, SSCs are no longer governed by the NRC's regulations, and therefore are not subject to compliance with the safety and health aspects of the nuclear environment. As such, retention of records associated with SSCs that are or will no longer be part of the facility serves no safety or regulatory purpose, nor does it serve the underlying purpose of the rule of maintaining compliance with the safety and health aspects of the nuclear environment in order to accomplish the NRC's mission. Accordingly, special circumstances are present which the NRC may consider, pursuant to 10 CFR 50.12(a)(2)(ii), to grant the requested exemption.

Records which continue to serve the underlying purpose of the rule, that is, to maintain compliance and to protect public health and safety in support of the NRC's mission, will continue to be retained pursuant to the regulations in 10 CFR part 50 and 10 CFR part 72. These retained records not subject to the exemption include those associated with programmatic controls, such as those pertaining to residual radioactivity, security, and quality assurance, as well as records associated with the ISFSI and spent fuel assemblies.

The retention of records required by 10 CFR 50.71(c); 10 CFR part 50, appendix A, Criterion I; 10 CFR part 50, appendix B, Criterion XVII; and 10 CFR 50.59(d)(3) provides assurance that records associated with SSCs will be captured, indexed, and stored in an environmentally suitable and retrievable condition. Given the volume of records associated with the SSCs, compliance with the records retention rule results in a considerable cost to the licensee. Retention of the volume of records associated with the SSCs during the operational phase is appropriate to serve the underlying purpose of determining compliance and noncompliance, taking action on possible noncompliance, and examining facts following an incident, as discussed above.

However, the cost effect of retaining operational phase records beyond the operations phase until the termination of the license was not fully considered or understood when the records retention rule was put in place. For example, existing records storage facilities are often eliminated as decommissioning progresses. Retaining records associated with SSCs and activities that no longer serve a safety or regulatory purpose would therefore necessitate creation of new facilities and retention of otherwise unneeded administrative support personnel. As such, compliance with the rule would result in an undue cost in excess of that contemplated when the rule was adopted. Accordingly, special circumstances are present which the NRC may consider, pursuant to 10 CFR 50.12(a)(2)(iii), to grant the requested exemption.

• Environmental Considerations: Pursuant to 10 CFR 51.22(b) and (c)(25), the granting of an exemption from the requirements of any regulation in Chapter I of 10 CFR is a categorical exclusion provided that (i) there is no significant hazards consideration; (ii) there is no significant change in the types or significant increase in the amounts of any effluents that may be released offsite; (iii) there is no significant increase in individual or cumulative public or occupational radiation exposure; (iv) there is no significant construction impact; (v) there is no significant increase in the potential for or consequences from radiological accidents; and (vi) the requirements from which an exemption is sought are among those identified in 10 CFR 51.22(c)(25)(vi).

The NRC staff has determined that approval of the exemption request involves no significant hazards consideration because allowing the licensee exemption from the record keeping requirements of 10 CFR 50.71(c); 10 CFR part 50, appendix A, Criterion I; 10 CFR part 50, appendix B, Criterion XVII; and 10 CFR 50.59(d)(3); and 10 CFR 72.72(d) at the decommissioning La Crosse Boiling Water Reactor does not: (1) Involve a significant increase in the probability or consequences of an accident previously evaluated; (2) create the possibility of a new or different kind of accident from any accident previously evaluated; or (3) involve a significant reduction in a margin of safety (10 CFR 50.92(c)). Likewise, there is no significant change in the types or significant increase in the amounts of any effluents that may be released offsite, and no significant increase in individual or cumulative public or occupational radiation exposure.

The exempted regulations are not associated with construction, so there is no significant construction impact. The exempted regulations do not concern the source term (i.e., potential amount of radiation involved an accident) or accident mitigation; therefore, there is no significant increase in the potential for, or consequences from, radiological accidents. Allowing the licensee partial exemption from the record retention requirements for which the exemption is sought involves record keeping requirements, as well as reporting requirements of an administrative, managerial, or organizational nature.

Therefore, pursuant to 10 CFR 51.22(b) and 10 CFR 51.22(c)(25), no environmental impact statement or environmental assessment need be prepared in connection with the approval of this exemption request.

IV. Conclusions

The NRC staff has determined that the requested partial exemption from the record keeping requirements of 10 CFR 50.71(c); 10 CFR part 50, appendix A, Criterion I; 10 CFR part 50, appendix B, Criterion XVII; 10 CFR 50.59(d)(3); and 10 CFR 72.72(d) will not present an undue risk to the public health and safety, nor endanger life or property. The destruction of the identified records will not impact remaining decommissioning activities; plant operations, configuration, and/or radiological effluents; operational and/or installed SSCs that are quality-related or important to safety; or nuclear security.

The NRC staff has determined that the destruction of the identified records is administrative in nature and does not involve information or activities that could potentially impact the common defense and security of the United States. In addition, the staff determined that the exemption is in the public interest because it will allow decommissioning at LACBWR to be accomplished more efficiently and effectively without the need to maintain redundant record retention systems, unneeded administrative personnel, and the associated costs.

The purpose for the record keeping regulations is to assist the NRC in carrying out its mission to protect the public health and safety by ensuring that the licensing and design basis of the facility is understood, documented, preserved and retrievable in such a way that will aid the NRC in determining compliance and noncompliance, taking action on possible noncompliance, and examining facts following an incident. Since the LACBWR SSCs that were safety-related or important to safety have been or will be removed from the licensing basis and removed from the plant, the staff agrees that the records identified in the partial exemption will no longer be required to achieve the underlying purpose of the records retention rule.

The NRC previously approved the QAPD, including use of the single facility location for the storage and maintenance of QA records at LACBWR. This approach remains acceptable to satisfy the record keeping requirements of both 10 CFR part 50, appendix B, and 10 CFR part 72. Granting an exemption from the duplicate record keeping requirement in 10 CFR 72.72(d) will not affect the record content, retrievability, or retention requirements specified in 10 CFR 72.72 or 10 CFR 72.174, such that the licensee will continue to meet all other applicable record requirements for the LACBWR ISFSI and associated special nuclear materials.

Accordingly, the Commission has determined that, pursuant to 10 CFR 50.12 and 10 CFR 72.7, the exemption is authorized by law, will not present an undue risk to the public health and safety, will not endanger life or property or the common defense and security, is consistent with the common defense and security, and is in the public interest. Also, special circumstances are present. Therefore, the Commission hereby grants the Dairyland Power Cooperative a one-time partial exemption from the record keeping requirements of 10 CFR 50.71(c); 10 CFR part 50, appendix A, Criterion I; 10 CFR part 50, appendix B, Criterion XVII; 10 CFR 50.59(d)(3); and 10 CFR 72.72(d) for the La Crosse Boiling Water Reactor to advance the schedule to remove records associated with SSCs that have been removed from NRC licensing basis documents by appropriate change mechanisms.

This exemption is effective upon issuance.

Dated at Rockville, Maryland, this 18th day of July 2016.
For the Nuclear Regulatory Commission.
John R. Tappert,
Director, Division of Decommissioning, Uranium Recovery and Waste Programs, Office of Nuclear Material Safety and Safeguards.

[FR Doc. 2016-17773 Filed 7-26-16; 8:45 am]

BILLING CODE 7590-01-P